DEPARTMENT OF THE TREASURY

Submission for OMB Review; Comment Request

March 22, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before April 28, 2000 to be assured of consideration.

Internal Revenue Service (IRS)

OMB Number: 1545-1308.

Regulation Project Number: IA-17-90 Final.

Type of Review: Extension.

Title: Reporting Requirements for Recipients of Point Paid on Residential Mortgages.

Description: To encourage compliance with the tax laws relating to the mortgage interest deduction, the regulations require the reporting on Form 1098 of points paid on residential mortgages. Only businesses that receive mortgage interest in the course of a trade or business are affected by this reporting requirement.

Respondents: Business or other for-profit.

Estimated Number of Respondents/Recordkeepers: 37,644.

Estimated Burden Hours Per Respondent/Recordkeeper: 7 hours, 41 minutes.

Frequency of Response: Annually.

Estimated Total Reporting/Recordkeeping Burden: 283,056 hours.

OMB Number: 1545-1669.

Notice Number: Notice 2000-3.

Type of Review: Extension.

Title: Guidance on Cash or Deferred Arrangements.

Description: This notice provides guidance to employers maintaining, or who are contemplating establishing, cash or deferred arrangements (CODAs) for their employees. It permits some degree of flexibility in using the safe harbor methods, described in sections 40(k)(12) and 401(m)(11) of the Code, to satisfy the nondiscrimination tests normally applicable to CODAs. As indicated in section III, Q&As 1 and 2, of the notice, to take advantage of this flexibility, employers must amend their CODAs accordingly and provide employees written notices of the benefits available to them under the CODA.

Respondents: Business or other for-profit, Not-for-profit institutions.

Estimated Number of Respondents: 6,000.

Estimated Burden Hours Per Respondent: 1 hour, 20 minutes.

Frequency of Response: On occasion.

Estimated Total Reporting Burden: 8,000 hours.

Clearance Officer: Garrick Shear, Internal Revenue Service, Room 5244, 1111 Constitution Avenue, NW, Washington, DC 20224.

OMB Reviewer: Alexander T. Hunt (202) 395-7860, Office of Management and Budget, Room 10202, New Executive Office Building, Washington, DC 20503.

Lois K. Holland,
Departmental Reports Management Officer.

[FR Doc. 00-7755 Filed 3-28-00; 8:45 am]

BILLING CODE 4830-01-P